DEPARTMENT OF TRANSPORTATION

Federal Aviation Administration

[Summary Notice No. PE-2002-52]

Petitions for Exemption; Dispositions of Petitions Issued

AGENCY: Federal Aviation Administration (FAA), DOT.

ACTION: Notice of dispositions of prior petitions for exemption.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition.

FOR FURTHER INFORMATION CONTACT: Forest Rawls (202) 267-8033, Sandy Buchanan-Sumter (202) 267-7271, Vanessa Wilkins (202) 267-8029,or Denise Emrick (202) 267-5174, Office of Rulemaking (ARM-1), Federal Aviation Administration, 800 Independence Avenue, SW., Washington, DC 20591.

This notice is published pursuant to 14 CFR 11.85 and 11.91.

Issued in Washington, DC, on August 22, 2002.
Donald P. Byrne,
Assistant Chief Counsel for Regulations.

Dispositions of Petitions

Docket No.: FAA-2002-12729.

Petitioner: Evergreen Helicopters of Alaska, Inc.

Section of 14 CFR Affected: 14 CFR 135.143(c)(2).

Description of Relief Sought/Disposition: To permit Evergreen Helicopters to operate certain aircraft under part 135 without a TSC-C112 (Mode S) transponder installed in the aircraft. Grant/July 25, 2002, Exemption No. 7843

Docket No.: FAA-2002-12009.

Petitioner: Chautauqua Airlines, Inc.

Section of 14 CFR Affected: 14 CFR 121.434(c)(1)(ii).

Description of Relief Sought/Disposition: To permit Chautauqua to substitute a qualified and authorized check airman in place of an FAA inspector to observe a qualifying pilot in command (PIC) while that PIC is performing prescribed duties during at least one flight leg that includes a takeoff and a landing when completing initial or upgrade training as specified in § 121.424. Grant/July 17, 2002, Exemption No. 7353A

Docket No.: FAA-2002-12401.

Petitioner: HeliFlite Shares, LLC

Section of 14 CFR Affected: 14 CFR 135.151(a).

Description of Relief Sought/Disposition: To permit HeliFlite to operate a rotorcraft seating six or more passengers and requiring two pilots, without equipping the rotorcraft with an approved cockpit voice recorder (CVR). Denial/July 17, 2002, Exemption No. 7839

Docket No.: FAA-2002-12339.

Petitioner: Flight Alaska, Inc.

Section of 14 CFR Affected: 14 CFR 135.152(a).

Description of Relief Sought/Disposition: To permit Flight Alaska Inc to operate one Beechcraft King Air 200 airplane, serial No. BB-483, registration No. N250FN, in a 13-seat configuration under part 135 without that airplane being equipped with one or more digital flight data recorders (DFDR). Denial/July 18, 2002, Exemption No. 7838

Docket No.: FAA-2002-11933.

Petitioner: Continental Express

Section of 14 CFR Affected: 14 CFR 121.434(c)(1)(ii).

Description of Relief Sought/Disposition: To permit Continental to substitute a qualified and authorized check airman for an FAA inspector to observe a qualifying pilot in command (PIC) perform prescribed duties during at least one flight leg that includes a takeoff and a landing when the PIC is completing initial or upgrade training as specified in § 121.424. Grant/July 23, 2002, Exemption No. 6798B

Docket No.: FAA-2002-12733.

Petitioner: High Adventure Air Charter, Guides and Outfitters, Inc.

Section of 14 CFR Affected: 14 CFR 135.143(c)(2).

Description of Relief Sought/Disposition: To permit High Adventure to operate certain aircraft under part 135 without a TSO-C112 (Mode S) transponder installed in the aircraft. Grant/July 24, 2002, Exemption No. 7842

Docket No.: FAA-2002-12727.

Petitioner: Talon Air Service, Inc.

Section of 14 CFR Affected: 14 CFR 135.143(c)(2).

Description of Relief Sought/Disposition: To permit Talon to operate certain aircraft under part 135 without a TSO-C112 (Mode S) transponder installed in the aircraft. Grant/July 25, 2002, Exemption No. 7846

Docket No.: FAA-2002-12751.

Petitioner: F.S. Air Service, Inc.

Section of 14 CFR Affected: 14 CFR 135.143(c)(2).

Description of Relief Sought/Disposition: To permit F.S. Air Service to operate certain aircraft under part 135 without a TSO-C112 (Mode S) transponder installed in the aircraft. Grant/July 25, 2002, Exemption No. 7845

Docket No.: FAA-2002-12719.

Petitioner: Pathfinder Aviation, Inc.

Section of 14 CFR Affected: 14 CFR 135.143(c)(2).

Description of Relief Sought/Disposition: To permit Pathfinder to operate certain aircraft under part 135 without a TSO-C112 (Mode S) transponder installed in the aircraft. Grant/July 25, 2002, Exemption No. 7844

Docket No.: FAA-2000-8338.

Petitioner: Air Cargo Express.

Section of 14 CFR Affected: 14 CFR 121.345(c)(2) and 135.143(c)(2).

Description of Relief Sought/Disposition: To permit Air Cargo Express to operate certain aircraft under parts 121 and 135 without a TSO-C112 (Mode S) transponder installed on those aircraft. Grant/July 29, 2002, Exemption No. 7403B

Docket No.: FAA-2002-12718.

Petitioner: ARCH Air Medical Service, Inc.

Section of 14 CFR Affected: 14 CFR 135.143(c)(2).

Description of Relief Sought/Disposition: To permit ARCH to operate certain aircraft under part 135 without a TSO-C112 (Mode S) transponder installed in the aircraft. Grant/July 31, 2002, Exemption No. 7848

[FR Doc. 02-21783 Filed 8-26-02; 8:45 am]

BILLING CODE 4910-13-P